DEPARTMENT OF THE INTERIOR

Office of Natural Resources Revenue

[Docket No. ONRR-2011-0001; DS63644000 DRT000000.CH7000 201D1113RT; OMB Control Number 1012-0010]

Agency Information Collection Activities; Submission to the Office of Management and Budget for Review and Approval; Solid Minerals and Geothermal Collections

AGENCY: Office of the Secretary, Office of Natural Resources Revenue, Interior.

ACTION: Notice of information collection; request for comment.

SUMMARY: In accordance with the Paperwork Reduction Act of 1995, the Office of Natural Resources Revenue (ONRR) is proposing to renew an information collection with revisions. ONRR seeks renewed authority to collect information through four forms that lessees use to report the production and royalties on solid minerals and geothermal resources produced from Federal and Indian lands.

DATES: Interested persons are invited to submit written comments on or before November 7, 2019.

ADDRESSES: Send written comments on this information collection request (ICR) to the Office of Management and Budget's Desk Officer for the Department of the Interior by email to OIRA_Submission@omb.eop.gov or facsimile to (202) 395-5806. Please provide a copy of your comments to Mr. Armand Southall, Regulatory Specialist, ONRR, P.O. Box 25165, MS 64400B, Denver, Colorado 80225-0165, or by email to Armand.Southall@onrr.gov. Please reference “OMB Control Number 1012-0010” in the subject line of your comments.

FOR FURTHER INFORMATION CONTACT: Mr. Michael Anspach, Solid Minerals, ONRR, at (303) 231-3618, or email to Michael.Anspach@onrr.gov. You may also review the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We published a notice, with a 60-day public comment period soliciting comments on this collection of information, in the Federal Register on May 7, 2019 (84 FR 19946). During the 60-day period, we specifically reached out to seven companies impacted by this ICR to request input. In response to the outreach, we received five responsive comments.

The first comment we received stated:

I have read Federal Register (84 FR 19946, May 7, 2019). I have no comments at this time.

The second comment we received stated:

I have read through the Federal Register notice that you have provided and have no official comments to report.

The third comment we received stated:

The entry of data into the system is cumbersome and with today's technology there should be a way to import our information into the system. Working within the restraints of the system tends to add additional time to any task. The constraints of a single PAR a day submission is difficult to work with. Overall system reliability seems to cause several down times that can make submission difficult.

The fourth comment we received stated:

I have read the Federal Register notice regarding OMB Control No. 1012-0010, Solid Minerals Collections. In section I. Abstract, OMB Approval it states “We protect the proprietary information that ONRR receives and do not collect items of a sensitive nature”. I agree with the first half of this sentence, however ONRR does collect items of a sensitive nature which are listed in section A. Solid Minerals. Thank you.

The fifth comment we received stated:

A company provided adjustments to the following parts and sections of the Respondents' Estimated Annual Burden Hours Chart:

Part 1210—Forms and Reports; Subpart E—Solid Minerals, General

§ 1210.201: Hour burden—0.5 hour; Average number of annual responses—12; Annual burden hours—6 hours.

§ 1210.202: Hour burden—0.5 hour; Average number of annual responses—12; Annual burden hours—6 hours.

§ 1210.205: Hour burden—0.5 hour; Average number of annual responses—12; Annual burden hours—6 hours.

Part 1218—Collection of Royalties, Rentals, and Bonuses, and Other Monies Due the Federal Government; Subpart F—Geothermal Resources

§ 1218.300: Hour burden—2 hours; Average number of annual responses—2; Annual burden hours—4 hours.

§ 1218.306(a): Hour burden—3 hours; Average number of annual responses—3; Annual burden hours—9 hours.

§ 1218.306(b): Hour burden—2 hours; Average number of annual responses—12; Annual burden hours—24 hours.

Once again, we are soliciting comments on this proposed ICR that is described below. We are especially interested in public comment addressing the following issues: (1) Is the collection necessary to execute ONRR's proper functions; (2) will this information be processed and used in a timely manner; (3) is the estimate of burden hours accurate; (4) how might ONRR enhance the quality, usefulness, and clarity of the information collected; and (5) how might ONRR minimize the burden of this collection on the respondents, including the use of information technology.

Comments that you submit in response to this notice are a matter of public record. Before including your personally identifiable information (PII), such as your address, phone number, email address, or other PII in your comment(s), you should be aware that your entire comment, including PII, may be made available to the public at any time. While you can ask us, in your comment, to withhold your PII from public view, we cannot guarantee that we will be able to do so.

Abstract: The Secretary of the United States Department of the Interior is responsible for mineral resource development on Federal and Indian lands and the Outer Continental Shelf (OCS). Also, the Secretary is responsible for collecting royalty information from lessees who produce minerals from Federal and Indian lands and the OCS. Under various laws, the Secretary's responsibility is to (1) manage mineral resources production from Federal and Indian lands and the OCS; (2) collect the royalties and other mineral revenues due; and (3) distribute the funds collected. We have posted the laws pertaining to mineral leases on Federal and Indian lands and the OCS at http://www.onrr.gov/Laws_R_D/PubLaws/default.htm.

The Secretary also has a trust responsibility to manage Indian lands and seek advice and information from Indian beneficiaries. ONRR performs the minerals revenue management functions for the Secretary and assists the Secretary in carrying out the Department's trust responsibility for Indian lands.

You can find the information collections covered in this ICR at 30 CFR parts:

• 1202, subpart H, which pertains to geothermal resources royalties.

• 1206, subparts F, H, and J, which pertain to product valuation of Federal coal, geothermal resources, and Indian coal.

• 1210, subparts E and H, which pertain to production and royalty reports on solid minerals and geothermal resources leases.

• 1212, subparts E and H, which pertain to recordkeeping of reports and files for solid minerals and geothermal resources leases.

• 1217, subparts E, F, and G, which pertain to audits and inspections of coal, other solid minerals, and geothermal resources leases.

• 1218, subparts E and F, which pertain to royalties, rentals, bonuses, and other monies payment for solid minerals and geothermal resources.

All data reported is subject to subsequent audit and adjustment.

General Information

When a company or an individual enters into a lease to explore, develop, produce, and sell, or otherwise dispose of, minerals from Federal or Indian lands, that company or individual agrees to pay the lessor a share in an amount or value of production from the leased lands. The lessee, or its designee, must report various kinds of information to the lessor related to the disposition of the leased minerals. Such information is generally available within the records of the lessee or others involved in developing, transporting, processing, purchasing, or selling such minerals.

Information Collections

ONRR, acting for the Secretary, uses the information we collect to ensure that lessees accurately value and appropriately pay all royalties and other mineral revenues due based on the correct product valuation. ONRR and other Federal government entities, including the Bureau of Land Management, the Bureau of Indian Affairs, and State and Tribal governmental entities, use the information for audit purposes and for evaluating the reasonableness of product valuation or allowance claims that lessees submit. Please refer to the burden hour chart for all reporting requirements and associated burden hours.

A. Solid Minerals

Producers of coal and other solid minerals from any Federal or Indian lease must submit the Solid Minerals Production and Royalty Report (form ONRR-4430) and other associated data formats such as the Solid Minerals Sales Summary (form ONRR-4440). These companies also report certain data on the Report of Sales and Royalty Remittance (form ONRR-2014) (OMB Control Number 1012-0004). Producers of coal from any Indian lease must also submit the Coal Washing Allowance Report (form ONRR-4292) and the Coal Transportation Allowance Report (form ONRR-4293), if they wish to claim allowances on form ONRR-4430. The information that ONRR requests is the minimum necessary to carry out our mission and places the least possible burden on respondents.

B. Geothermal Resources

This ICR also covers some of the information collections for geothermal resources, which ONRR groups by usage (electrical generation, direct use, and byproduct recovery), and by disposition of the resources (arm's-length (unaffiliated) contract sales, non-arm's-length contract sales, and no contract sales) within each use group. ONRR relies primarily on data that payors report on form ONRR-2014 for the majority of our business processes, including geothermal information. In addition to using the data to account for royalties that payors report, ONRR uses the data for monthly distribution of mineral revenues and for audit and compliance reviews.

Revisions to ICR

In March 2019, the U.S. District Court for the Northern District of California vacated ONRR's 2017 repeal of its 2016 Consolidated Federal Oil & Gas and Federal & Indian Coal Valuation Reform Rule (2016 Valuation Rule). By vacating ONRR's 2017 repeal, the Court reinstated ONRR's 2016 Valuation Rule, originally published on July 1, 2016 (81 FR 43338), with its original effective date of January 1, 2017.

This is an ICR with revisions because it takes into account the 2016 Valuation Rule, which amended ONRR's Federal and Indian coal valuation regulations. This ICR requires revisions to note changes to its authority when the final rule amended 30 CFR part 1206, subparts F and J. The two changes relevant to this ICR are that ONRR: (1) Simplified and improved the valuation of coal disposed of in a non-arm's-length transaction and no-sale situations; and (2) eliminated benchmarks for valuation of non-arm's-length coal sales.

OMB Approval

We will request OMB approval to continue to collect this information. Not collecting this information would limit the Secretary's ability to discharge fiduciary duties and may also result in the loss of royalty payments. We protect the proprietary information that ONRR receives and do not collect items of a sensitive nature. Reporters must submit forms ONRR-4430 and ONRR-4440. Also, ONRR requires that reporters submit forms ONRR-4292 and ONRR-4293 to claim allowances on form ONRR-4430.

Data

Title of Collection: Solid Minerals and Geothermal Collections—30 CFR parts 1202, 1206, 1210, 1212, 1217, and 1218.

OMB Control Number: 1012-0010.

Form Numbers: ONRR-4292, ONRR-4293, ONRR-4430, and ONRR-4440.

Type of Review: Revision of a currently approved collection.

Respondents/Affected Public: Businesses.

Total Estimated Number of Annual Respondents: 100 reporters.

Total Estimated Number of Annual Responses: 9,422.

Estimated Completion Time per Response: The average completion time is 24.65 minutes per response. The average completion time is calculated by first multiplying the estimated annual burden hours from the table below (3,871) by 60 minutes to obtain the total annual burden minutes (232,260). Then the total annual burden minutes (232,260) is divided by the estimated annual responses (9,422) from the table below.

Total Estimated Number of Annual Burden Hours: 3,871 hours.

Respondent's Obligation: The records maintenance and the filing of forms ONRR-4430 and ONRR-4440 are mandatory. The filing of forms ONRR-4292 and ONRR-4293, and the submission of solid minerals and geothermal resource information that do not have an ONRR form, are required to obtain or retain a benefit.

Frequency of Collection: Monthly, annually, and on occasion.

Total Estimated Annual Nonhour Burden Cost: We have identified no “nonhour cost” burden associated with this collection of information.

We have not included in our estimates certain requirements companies perform in the normal course of business that ONRR considers usual and customary. We displayed the estimated annual burden hours by CFR section and paragraph in the following chart.

Summary of Information Collections
Information collections (and 30 CFR references*) | Requirement to respond | Frequency of response | Number of annual responses | Annual burden hours
1. Reporting Formats: | Mandatory | Monthly | 3,579 | 1,531
• Form ONRR-4430, Solid Minerals Production and Royalty Report,
• Associated Data (facility data) [1206.258(a), 1206.262, 1206.263(a), 1206.264, 1206.268(c)(1) & (2), 1206.269(h)(1), 1206.270(a), 1206.271(a), 1206.451(a) & (b), 1206.455, 1206.458(a), 1210.201, 1210.203, 1210.204, 1218.201, 1218.203]
• Form ONRR-4440, Solid Minerals Sales Summary [1201.202] | Mandatory | Monthly | 900 | 900
2. Allowance Forms: | Required to obtain a benefit | Annually and on occasion | 5 | 8
• Form ONRR-4292, Coal Washing Allowance Report [1206.467(a)(2), 1206.469(h)(1), 1206.470(d)(1), 1206.471(c)(1)]
• Form ONRR-4293, Coal Transportation Allowance Report [1206.460(a)(2), 1206.461(c)(1), 1206.462(h)(1), 1206.464(c)(1) & (e), 1206.464(c)(3)(i) & (ii)] |  |  | 6 | 7
3. Geothermal Resources [1206.353(g), 1206.354(b)(1)(ii), 1206.354(g), 1206.356(a)(3), 1206.356(c), 1206.359(g), 1206.364(a)(1); 1210.352; 1218.306(a)(2)] | Mandatory | On occasion | 48 | 62
4. Recordkeeping [1206.251(a), (b), & (d), 1206.253(g)(1), 1206.453(g)(1); 1212.200(a)] | Mandatory | As requested | 4,884 | 1,363
Total |  |  | 9,422 | 3,871
Note: Audit Process—The Office of Regulatory Affairs determined that the audit process is exempt from the Paperwork Reduction Act of 1995 because ONRR staff asks non-standard questions to resolve exceptions.

An agency may not conduct or sponsor, and a person is not required to respond to, a collection of information unless it displays a currently valid OMB control number.

Authority: Paperwork Reduction Act of 1995 (44 U.S.C. 3501 et seq).

Gregory J. Gould,
Director for Office of Natural Resources Revenue.

[FR Doc. 2019-21863 Filed 10-7-19; 8:45 am]

BILLING CODE 4335-30-P